DEPARTMENT OF LABOR

Employment and Training Administration

[TA-W-64,631]

Chrysler, LLC, Detroit Axle Plant, Including On-Site Leased Workers from Caravan Knight Facilities Management LLC, and Syncreon, Detroit, MI; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on January 12, 2009, applicable to workers of Chrysler, LLC, Detroit Axle Plant, Detroit, Michigan. The notice was published in the Federal Register on February 2, 2009 (74 FR 5870). The notice was amended on March 4, 2010 to include on-site leased workers from Caravan Knight Facilities Management LLC. The notice was published in the Federal Register on March 12, 2010 (75 FR 111914).

At the request of a company official and the State agency, the Department reviewed the certification for workers of the subject firm. The workers are engaged in the production of automotive axles, a substantial proportion of which are shipped to an affiliated plant where they are used in the assembly of automotive vehicles.

New information shows that workers leased from Syncreon were employed on-site at the Detroit, Michigan location of Chrysler, LLC, Detroit Axle Plant.

The Department has determined that these workers were sufficiently under the control of the subject firm to be considered leased workers. Based on these findings, the Department is amending this certification to include workers leased from Syncreon, working on-site at the Detroit, Michigan location of Chrysler, LLC, Detroit Axle Plant.

The amended notice applicable to TA-W-64,631 is hereby issued as follows:

All workers of Chrysler, LLC, Detroit Axle Plant, including on-site leased workers from Caravan Knight Facilities Management LLC, and Syncreon, Detroit, Michigan, who became totally or partially separated from employment on or after December 8, 2007, through January 12, 2011, are eligible to apply for adjustment assistance under Section 223 of the Trade Act of 1974, and are also eligible to apply for alternative trade adjustment assistance under Section 246 of the Trade Act of 1974.

Signed at Washington, DC this 19th day of August, 2010.
Del Min Amy Chen,
Certifying Officer, Division of Trade Adjustment Assistance.

[FR Doc. 2010-21396 Filed 8-27-10; 8:45 am]

BILLING CODE 4510-FN-P